THE NATIONAL FOUNDATION ON THE ARTS AND THE HUMANITIES

Institute of Museum and Library Services

Notice of Proposed Information Collection Requests; Museum Assessment Program Evaluation

AGENCY: Institute of Museum and Library Services, National Foundation on the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act (44 U.S.C. 35). This pre-clearance consultation program helps to ensure that requested data can be provided in the desired format, reporting burden (time and financial resources) is minimized, collection instruments are clearly understood, and the impact of collection requirements on respondents can be properly assessed. By this notice, IMLS is soliciting comments concerning a proposed survey to collect information to monitor the use, expectations, of and satisfaction with cultural programs and services, particularly library and museum services.

A copy of the proposed information collection request can be obtained by contacting the individual listed below in the ADDRESSES section of this notice.

DATES: Written comments must be submitted to the office listed in the addressee section below on or before September 8, 2015.

IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

ADDRESSES: Send comments to: Christopher J. Reich, Senior Advisor, Institute of Museum and Library Services, 1800 M St. NW., 9th Floor, Washington, DC 20036. Mr. Reich can be reached by Telephone: 202-653-4685, Fax: 202-653-4608, or by email at creich@imls.gov, or by teletype (TTY/TDD) at 202-653-4614.

SUPPLEMENTARY INFORMATION:

I. Background

The Institute of Museum and Library Services is the primary source of federal support for the Nation's 123,000 libraries and 35,000 museums. The Institute's mission is to inspire libraries and museums to advance innovation, learning, and civic engagement. The Institute works at the national level and in coordination with state and local organizations to sustain heritage, culture, and knowledge; enhance learning and innovation; and support professional development. IMLS is responsible for identifying national needs for and trends in museum, library, and information services; measuring and reporting on the impact and effectiveness of museum, library and information services throughout the United States, including programs conducted with funds made available by IMLS; identifying, and disseminating information on, the best practices of such programs; and developing plans to improve museum, library, and information services of the United States and strengthen national, State, local, regional, and international communications and cooperative networks (20 U.S.C. 72, 20 U.S.C. 9108).

II. Current Actions

The purpose of this survey is to gauge the effect of the Museum Assessment Program (MAP) on participating museums and the museum field at large. The survey will be used to measure the degree to which the program is meeting the needs and building the institutional capacity of individual museums, and its overall impact on the museum field nationwide. Methods will include web surveys, telephone interviews, and focus group meetings.

The web survey will consist of approximately 40 questions that will examine the participating museums' experience with the MAP program and the subsequent changes in its operations that can be attributed to the program, as well as basic institutional profile information. The web survey will require an average of 60 minutes to complete. The telephone interview guide will be organized into approximately four sections (e.g. institutional changes resulting from MAP participation; funding; professionalization; and future expectations) and is projected to average 30 minutes to complete. Focus groups will be organized to generate shared experiences and discussion relating to overall impact on the museum field at large. No more than six focus groups will be organized, each involving 10-12 persons for a period of approximately one hour.

Agency: Institute of Museum and Library Services.

Title: Museum Assessment Program Evaluation.

OMB Number: To Be Determined.

Frequency: Anticipated for Every Five Years.

Affected Public: The target population is museums that have participated in the Museum Assessment Program during the past five years, all of which are located in the United States.

Number of Respondents: 132.

Estimated Average Burden per Response: The burden per respondent is estimated to be an average of one hour for the web survey, 30 minutes for the telephone interview and one hour for the focus groups.

Estimated Total Annual Burden: 132 hours.

Total Annualized capital/startup costs: n/a.

Total Annual costs: To be determined.

Public Comments Invited: Comments submitted in response to this notice will be summarized and/or included in the request for OMB's clearance of this information collection.

FOR FURTHER INFORMATION CONTACT: Christopher J. Reich, Senior Advisor, Institute of Museum and Library Services, 1800 M St. NW., 9th Floor, Washington, DC 20036. Mr. Reich can be reached by Telephone: 202-653-4685, Fax: 202-653-4608, or by email at creich@imls.gov, or by teletype (TTY/TDD) at 202-653-4614. Office hours are from 8:30 a.m. to 5 p.m., E.T., Monday through Friday, except Federal holidays.

Dated: July 6, 2015.
Kim Miller,
Management Analyst.

[FR Doc. 2015-16845 Filed 7-9-15; 8:45 am]

BILLING CODE 7036-01-P